DEPARTMENT OF HEALTH AND HUMAN SERVICES

Health Resources and Services Administration

Agency Information Collection Activities: Proposed Collection Comment Request

In compliance with the requirement for opportunity for public comment on proposed data collection projects (section 3506(c)(2) of Title 44, United States Code, as amended by the Paperwork Reduction Act of 1995, (Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: The Sentinel Centers Network (SCN) Core Data Set (OMB No. 0915-0268)—Extension.

HRSA's Bureau of Primary Health Care (BPHC) established the Sentinel Centers Network (SCN) to assist in addressing critical policy issues. Health centers identified as having adequate infrastructure and commitment through the competitive contract process have generated data for quality and program analyses and for projects on topics that have immediate programmatic impact. Health centers submit core data periodically extracted from existing information systems. These core data comprise patient, encounter, and practitioner level information including patient demographics, insurance status, clinical diagnoses and procedures, outcomes, and practitioner characteristics. Since all data obtained from the participant health centers is extracted/compiled from existing information systems, and not through primary data collection, burden is minimized. In addition, each participant site receives technical assistance as needed to reduce burden and facilitate data submission.

The annual burden estimate for this activity is as follows:

Type of respondent | Number of responses | Responses per respondents | Total responses | Hours per response | Total burden hours
Sites | 43 | 2 | 86 | 8 | 688

Send comments to Susan G. Queen, PhD., HRSA Reports Clearance Officer, Room 10-33, Parklawn Building, 5600 Fishers Lane, Rockville, Maryland 20857. Written comments should be received with 60 days of this notice.

Dated: August 1, 2005.
Tina M. Cheatham,
Director, Division of Policy Review and Coordination.

[FR Doc. 05-15612 Filed 8-5-05; 8:45 am]

BILLING CODE 4165-15-P